DEPARTMENT OF TRANSPORTATION

Federal Highway Administration

Notice of Final Federal Agency Action on Proposed Transportation Project in Georgia

AGENCY: Federal Highway Administration (FHWA), DOT.

ACTION: Notice of limitations on claims for judicial review.

SUMMARY: The FHWA, on behalf of the Georgia Department of Transportation (GDOT), is issuing this notice to announce actions taken by GDOT and other Federal agencies that are final agency actions. These actions relate to the proposed construction of a new interchange along Interstate 75 (I-75) at County Road (CR) 312/Bethlehem Road.

DATES: By this notice, the FHWA, on behalf of GDOT is advising the public of the final agency actions subject to 23 U.S.C. 139(l)(1). A claim seeking judicial review of the Federal Agency actions on the listed highway project will be barred unless the claim is filed on or before March 2, 2026. If the Federal law that authorizes judicial review of a claim provides a time period of less than 150 days for filing such claim, then that shorter time period still applies.

ADDRESSES: The Finding of No Significant Impact (FONSI) and additional project documents can be viewed and downloaded from the project website at: https://i75-bethlehemrd-gdot.hub.arcgis.com/ or by contacting the GDOT Office of Environmental Services, 600 West Peachtree Street, 22nd Floor, Atlanta, Georgia 30308, during normal business hours from 8 a.m. to 5 p.m. (Eastern Standard Time), Monday through Friday, except State holidays.

FOR FURTHER INFORMATION CONTACT: For FHWA: Ms. Sabrina David, Division Administrator, Georgia Division; telephone 404-562-3630; email: Sabrina.David@dot.gov. FHWA's normal business hours are 8:00 a.m. to 5:00 p.m. (eastern time) Monday through Friday. For GDOT: Mr. Russell McMurry, Commissioner; telephone (404) 631-1990; email: RMcMurry@dot.ga.gov.

SUPPLEMENTARY INFORMATION: Notice is hereby given that FHWA and other Federal agencies have taken final agency actions by issuing licenses, permits, or approvals for the proposed highway improvement project in the State of Georgia. The actions taken by FHWA and other Federal agencies on the project, and the laws under which such actions were taken are described in the FONSI approved on September 5, 2025, and in other documents in the project records. The FONSI and other documents for the listed project are available by contacting FHWA or GDOT at the address provided above.

The project subject to this notice is:

Project Location: The project limits include I-75 at CR 312/Bethlehem Road between Bill Gardner Parkway and State Route (SR) 155/North McDonough Road in Henry County, Georgia. The project will construct a new interchange along I-75 at CR 312/Bethlehem Road, realign Bethlehem Road with a section consisting of four lanes, construct new bridges across I-75 and Bethlehem Bottoms, construct roundabouts at the new interchange and at each end of the newly aligned roadway, and provide additional access points to and from Bethlehem Road.

Project Actions: This notice applies to the FONSI and all other Federal agency licenses, permits, or approval for the listed project as of the issuance date of this notice including but not limited to:

1. General: National Environmental Policy Act (NEPA) [42 U.S.C. 4321-4351]; Federal-Aid Highway Act [23 U.S.C. 109 and 23 U.S.C. 128]; 23 CFR part 771.

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and Section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Coastal Zone Management Act [16 U.S.C. 1451-1465]; Land and Water Conservation Fund (LWCF) [16 U.S.C. 4601-4604]; Safe Drinking Water Act (SDWA) [42 U.S.C. 300(f)-300(j)(6)]; Wild and Scenic Rivers Act [16 U.S.C. 1271-1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1)).

Sabrina S. David,
Division Administrator, Federal Highway Administration.

[FR Doc. 2025-19266 Filed 10-1-25; 8:45 am]

BILLING CODE 4910-22-P